DEPARTMENT OF COMMERCE

National Oceanic and Atmospheric Administration

[I.D. 111204D]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Habitat/Marine Protected Areas/Ecosystem Oversight Committee in December, 2004. Recommendations from the committee will be brought to the full Council for formal consideration and action, if appropriate.

DATES: The meeting will held on Thursday, December 2, 2004 at 9:30 a.m.

ADDRESSES: The meeting will be held at the Sheraton Harborside Portsmouth Hotel, 250 Market Street, Portsmouth, NH 03801; telephone: (603) 431-2300.

Council address: New England Fishery Management Council, 50 Water Street, Newburyport, MA 01950.

FOR FURTHER INFORMATION CONTACT: Paul J. Howard, Executive Director, New England Fishery Management Council; telephone: (978) 465-0492.

SUPPLEMENTARY INFORMATION: The Committee will continue to work on elements of the Essential Fish Habitat (EFH) Omnibus Amendment 2 including, but not limited to; progress on dedicated habitat research areas, EFH species reports, EFH designation working group, strategy for prioritizing protection of EFH, and non-fishing impacts workshop. The Committee will discuss the ecosystems pilot project work plan and the potential application of the proposed habitat closed areas in Lydonia and Oceanographer canyons to other fisheries. They will also develop comments contributing to a Council response to the Cape Wind Draft Environmental Impact Statement. Other topics may be discussed at the Committee's discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: November 15, 2004.
Alan D. Risenhoover,
Acting Director, Office of Sustainable Fisheries, National Marine Fisheries Service.

[FR Doc. E4-3245 Filed 11-17-04; 8:45 am]

BILLING CODE 3510-22-S